ENVIRONMENTAL PROTECTION AGENCY

[FRL-6969-8]

Compliance Assurance Monitoring Program Information Collection Request

AGENCY: Environmental Protection Agency (EPA).

ACTION: Notice.

SUMMARY: In compliance with the Paperwork Reduction Act (44 U.S.C. 3501 et seq.), we, the EPA, are planning to submit the following continuing Information Collection Request (ICR) to the Office of Management and Budget (OMB):

• 40 CFR part 64 Compliance Assurance Monitoring Program, EPA ICR Number 1663.03, OMB Control Number 2060-0376, expiration date September 30, 2001.

Before submitting the ICR to OMB for review and approval, we are soliciting comments on specific aspects of the proposed information collection as described below.

DATES: Comments must be submitted on or before June 25, 2001.

ADDRESSES: Comments. You may submit comments on this rulemaking in writing (original and two copies, if possible) to Docket No. A-91-52 to the following address: Air and Radiation Docket and Information Center (6102), US Environmental Protection Agency, 401 M Street, SW., Room 1500, Washington, DC 20460.

FOR FURTHER INFORMATION CONTACT: John C. Bosch, Jr., Environmental Protection Agency, Office of Air Quality Planning and Standards, at (919) 541-5583, or e-mail: bosch.john@epa.gov and refer to EPA ICR Number 1663.03. To obtain a copy of the draft ICR electronically, go to <http://www.epa.gov/ttn/emc> on the internet.

SUPPLEMENTARY INFORMATION: Who is affected by this action? You are affected by this action if you are an owner or operator of a ‘major’ source, as defined by any title of the Clean Air Act, and are required to apply for and obtain an operating permit under title V of the Clean Air Act as amended by the Clean Air Act Amendments of 1990 (the Act).

Title: 40 CFR part 64 Compliance Assurance Monitoring (CAM) Program, OMB Control Number 2060-0376, EPA ICR Number 1663.02 expiring September 30, 2001.

Abstract: The Act contains several provisions directing us to require owners or operators to conduct monitoring and to certify that they are complying with applicable requirements. These provisions are set forth in both title V (operating permits provisions) and section 114 of title I (enforcement provisions) of the Act. Title V directs us to implement monitoring certification requirements through the operating permits program. Section 504(b) of the Act allows us to prescribe by rule, methods and procedures for determining compliance and states that continuous emission monitoring systems need not be required if other methods or procedures provide sufficiently reliable and timely information for determining compliance. Under section 504(c), each operating permit must “set forth inspection, entry, monitoring, compliance, certification, and reporting requirements to assure compliance with the permit terms and conditions.” Section 114(a)(3) requires us to promulgate rules on enhanced monitoring and compliance certifications. Section 114(a)(1) of the Act provides additional authority concerning monitoring, reporting, and recordkeeping requirements. That section provides the Administrator with the authority to require any owner or operator of a source to install and operate monitoring systems and to record the resulting monitoring data. Regulations to implement these authorities were promulgated at 62 FR 54900 (October 22, 1997).

In accordance with section 503(e) of the Act, monitoring information to be submitted by source owners and operators as part of their monitoring reports and compliance certifications shall be available to the public, except as entitled to protection from disclosure as allowed in section 114(c) of the Act.

An agency may not conduct or sponsor, and a person is not required to respond to, a request for collection of information subject to the Paperwork Reduction Act unless the request displays a currently valid OMB control number. The OMB control numbers for EPA's regulations, including the control number for the CAM program, are listed in 40 CFR part 9 and 48 CFR chapter 15.

We are soliciting comments to:

(i) Evaluate whether the proposed collection of information is necessary for the proper performance of the Agency functions, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The expected impact of the 40 CFR Part 64 Compliance Assurance Monitoring program for the 3 years from October 1, 2001 until September 30, 2004 is the same as that derived for the original 1997 ICR. The CAM Rule will incur an average annual burden of approximately 49 thousand hours, at an average annual cost of approximately $2.7 million in 2001 dollars. This includes an annualized capital and O&M cost of $123 thousand that will be incurred by major sources.

The CAM burden for sources means the total time, effort, or financial resources expended by persons to generate, maintain, retain, or disclose or provide monitoring information to or for a Federal agency. This includes the time needed to review instructions; compile CAM plans; and develop, acquire, and install monitoring systems for the purposes of collecting, validating, verifying, and reporting compliance assurance monitoring data. Annualized capital and O&M costs for monitoring programs are also included in the cost burden calculations. The CAM program potentially affects 24,650 large pollutant-specific units plus 110,560 other pollutant-specific units nationwide. The annual burden for sources total about 8,300 hours for large pollutant-specific units and approximately 37,000 hours for other pollutant-specific units.

The annual CAM burden to permitting authorities is about 3,300 hours for large pollutant-specific units and 9,000 hours for other pollutant-specific units. There is no Federal burden or cost incurred by this rule.

During the period of this ICR, permitting authorities will be revising CAM plans for sources whose permits have already been issued, renewing CAM plans for sources whose 5-year permit term will expire, and reviewing semi-annual compliance monitoring reports for all permitted sources. Sources will primarily be interacting with the permitting authority on preparing their semi-annual CAM reports, carrying out their compliance assurance monitoring, preparing CAM reports, and reporting CAM data as necessary to the permitting authority.

Dated: March 29, 2001.
W. Fred Dimmick,
Acting Director, Emissions, Monitoring and Analysis Division.

[FR Doc. 01-10432 Filed 4-25-01; 8:45 am]

BILLING CODE 6560-50-P